DEPARTMENT OF THE INTERIOR

Central Utah Project Completion Act

AGENCIES: Department of the Interior, Office of the Assistant Secretary—Water and Science.

ACTION: Notice of Availability, Draft Environmental Assessment (EA), Francis Sub-Area water conversion from irrigation to municipal and industrial purposes, Summit County, Utah.

SUMMARY: Pursuant to Section 102(2)(c) of the National Environmental Policy Act of 1969, as amended, the Department of the Interior and the Central Utah Water Conservancy District, are evaluating the impacts of converting Central Utah Project (CUP) Bonneville Unit water, delivered to the Francis Sub-Area of Summit County, Utah, from irrigation to municipal and industrial (M&I) use. In addition, the area of delivery would be expanded. The water conversion will involve up to 3,000 acre-feet of irrigation water that has historically been delivered to agricultural tracts under Bureau of Reclamation (Reclamation) law and policy. The irrigation water would be converted incrementally to M&I use over a period of up to 25 years. The expanded Francis Sub-Area would be restricted to lands within the Central Utah Water Conservancy District boundary, in the upper Provo River drainage, upstream of Jordanelle Reservoir.

The Bonneville Unit of the CUP was authorized to develop a portion of central Utah's water resources. Under the authority of Reclamation Law and the Central Utah Project Completion Act (Pub. L. 102-575), the Secretary of the Interior oversees implementation of the CUP and therefore has authority to convert CUP water from irrigation to M&I use. Current and proposed changes in land use in the Francis Sub-Area of Summit County, Utah, resulted in a request made by governing officials and local water companies to initiate the process for water conversion from irrigation to M&I and to expand the Francis Sub-Area to be eligible for CUP M&I water.

FOR FURTHER INFORMATION CONTACT: Additional information may be obtained by contacting Ms. Annette Marvin, Central Utah Project Completion Act Office, 302 East 1860 South, Provo, Utah 84606, by calling (801) 379-1260, or e-mail at amarvin@uc.usbr.gov.

Copies of the draft EA are available for inspection at: Central Utah Water Conservancy District, 355 West University Parkway, Orem, Utah 84058-7303; Department of the Interior, Central Utah Project Completion Act Office, 302 East 1860 South, Provo, Utah 84606.

In addition, the document is available at http://www.cuwcd.com.

SUPPLEMENTARY INFORMATION: None.

Dated: October 3, 2008.
Reed R. Murray,
Program Director, Central Utah Project Completion Act, Department of the Interior.

[FR Doc. E8-23981 Filed 10-8-08; 8:45 am]

BILLING CODE 4310-RK-P